DEPARTMENT OF HOMELAND SECURITY

Coast Guard

46 CFR Parts 2, 24, 30, 70, 90, 91, and 188

[Docket No. USCG-2011-0363]

RIN 1625-AC03 (formerly RIN 1625-AB71)

Seagoing Barges

AGENCY: Coast Guard, DHS.

ACTION: Final rule.

SUMMARY: The Coast Guard is revising several vessel inspection and certification regulations to align them with a statutory definition of “seagoing barge” and with a statutory exemption from inspection and certification requirements for certain seagoing barges. The revisions are intended to eliminate ambiguity in existing regulations, to reduce the potential for confusion among the regulated public, and to help the Coast Guard perform its maritime safety and stewardship missions.

DATES: This final rule is effective September 30, 2013.

ADDRESSES: Comments and material received from the public, as well as documents mentioned in this preamble as being available in the docket, are part of docket USCG-2011-0363 and are available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, inserting USCG-2011-0363 in the “Search” box, and then clicking “Search.”

FOR FURTHER INFORMATION CONTACT: If you have questions on this rule, call or email Mr. William Abernathy, Vessel and Facility Operating Standards Division (CG-OES-2), Coast Guard; telephone 202-372-1363, email William.J.Abernathy@uscg.mil. If you have questions on viewing the docket, call Barbara Hairston, Program Manager, Docket Operations, telephone 202-366-9826.

SUPPLEMENTARY INFORMATION:

Table of Contents for Preamble

I. Abbreviations

II. Discussion

III. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Abbreviations

CFR Code of Federal Regulations

DFR Direct final rule

E.O. Executive Order

FR Federal Register

NPRM Notice of proposed rulemaking

Pub. L. Public Law

U.S.C. United States Code

II. Discussion

The legal basis for this final rule is 46 U.S.C. 3306, which requires the Secretary of Homeland Security to prescribe regulations for Coast Guard-inspected vessels, and Executive Order (E.O.) 12988, Civil Justice Reform, section 3(a), which obligates Federal agencies to eliminate ambiguity in existing regulations. The Secretary's authority under 46 U.S.C. 3306 is delegated to the Coast Guard in Department of Homeland Security Delegation No. 0170.1 paragraph (92.b). The purpose of this final rule is to finalize revisions that are intended to align Coast Guard regulations with current statutory language, thereby eliminating ambiguity that could cause confusion among the regulated public. That ambiguity arose as the result of two statutory changes that affect how seagoing barges are defined and regulated.

First, seagoing barges were once defined by law as non-self-propelled vessels of 100 gross tons and over that proceed on voyages on the high seas or ocean. In 1983, as part of a comprehensive revision of the shipping statutes in Title 46, U.S. Code, Congress provided a new definition of “seagoing barge” in 46 U.S.C. 2101(32): a non-self-propelled vessel of at least 100 gross tons making voyages beyond the statutorily defined Boundary Line.¹ In 1997, the Coast Guard amended 46 CFR 90.10-36 to align that section's definition of seagoing barge. Nevertheless, two Coast Guard regulations, 46 CFR 90.05-25 and 91.01-10, continue to use the pre-1983 definition. This final rule amends both sections so that they align with 46 U.S.C. 2101(32).

¹ 33 U.S.C. 151(b) refers to “identifiable lines dividing inland waters of the United States from the high seas . . . [which] may not be located more than twelve nautical miles seaward of the base line from which the territorial sea is measured. These lines may differ in position for the purposes of different statutes.” These lines are defined in 46 U.S.C. 103 as the “Boundary Line.” The locations of the Boundary Line for different portions of the U.S. coastline are defined in Coast Guard regulations, 46 CFR part 7.

Second, in 1993, Congress added 46 U.S.C. 3302(m) to exempt a seagoing barge from the general 46 U.S.C. 3301(6) requirement for such barges to be Coast Guard inspected and certificated, if the barge is “unmanned” and “does not carry” either a “hazardous material as cargo” or “a flammable or combustible liquid, including oil, in bulk.” It is long-established Coast Guard policy not to require exempt seagoing barges to be inspected or certificated. However, some owners or operators of exempt barges voluntarily request inspection and certification, either unnecessarily and because they are unaware of the section 3302(m) exemption, or as a rational business decision meant to facilitate the barge's anticipated near-term use for non-exempt service. To ensure that these voluntary requests are made with full knowledge of the exemption's availability, this final rule aligns regulatory language with section 3302(m) in eight Coast Guard regulations: 46 CFR 90.05-25 and 91.01-10; and 46 CFR 2.01-7, 24.05-1, 30.01-5, 70.05-1, 90.05-1, and 188.05-1, all of which contain tables that summarize Coast Guard inspection and certification requirements.

On December 14, 2011, the Coast Guard published a direct final rule (DFR) entitled “Seagoing Barges” (76 FR 77712). Following the receipt of an adverse comment on the DFR and pursuant to Coast Guard regulations, 33 CFR 1.05-55, we withdrew the DFR on April 6, 2012 (77 FR 20727). On January 9, 2013, we published a notice of proposed rulemaking (NPRM) entitled “Seagoing Barges” in the Federal Register (78 FR 2148). It was substantively identical to the DFR except insofar as it was modified to address the adverse comment. No public meeting on the NPRM was requested and none was held. All prior publications were issued under RIN 1625-AB71.

Two persons commented on the NPRM. The first commenter requested expanding the scope of the rulemaking to include barges operating on the Great Lakes, and asked us to define what is a “manned seagoing barge.” We decline to expand the limited aim of this rulemaking, which applies only to seagoing barges, which are defined in 46 U.S.C. 2101(32) as vessels that operate beyond the Boundary Line. The Boundary Line is set at varying distances from the ocean-bound coastline of the U.S. and does not pertain to the Great Lakes. See Coast Guard regulations in 46 CFR part 7. We also decline to create a definition for a manned seagoing barge because determining when a seagoing barge is “manned” is a highly fact-specific determination made by the local Coast Guard Officer in Charge, Marine Inspection. As discussed in the NPRM's preamble, 78 FR 2150, col. 1, that fact-specific determination depends on factors cited in 46 CFR 15.501(b): “the applicable laws, the regulations in [46 CFR part 15], and other factors involved, such as: Emergency situations, . . . cargo carried, . . . degree of automation, use of labor saving devices, and the organizational structure of the vessel.”

The second commenter requested more detailed discussion in support of our proposed definition of a seagoing barge carrying flammable or combustible liquid, including oil “in bulk.” We are amending 46 CFR 90.05-25(a) to define “in bulk” as a quantity equivalent to at least 250 barrels (10,500 gallons). Some regulatory definition of “in bulk” is needed so that barge operators know whether or not they are subject to the 46 U.S.C. 3302(m) exemption. The statute does not provide that definition. However, as we pointed out in the NPRM, 78 FR at 2150, col. 3, Coast Guard policy set the bulk threshold at 250 barrels in 1996. That same policy has been in place without public concern for almost two decades and so the regulatory definition follows current Coast Guard policy.

III. Regulatory Analyses

We developed this rule after considering numerous statutes and executive orders (E.O.s) related to rulemaking. Below we summarize our analyses based on these statutes or executive orders.

A. Regulatory Planning and Review

Executive Orders 12866 (“Regulatory Planning and Review”) and 13563 (“Improving Regulation and Regulatory Review”) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule is not a significant regulatory action under section 3(f) of E.O. 12866, Regulatory Planning and Review, and does not require an assessment of potential costs and benefits under section 6(a)(3) of that Order. The Office of Management and Budget has not reviewed it under that Order.

This final rule aligns 46 CFR 90.05-25, 46 CFR 91.01-10, and the vessel inspection tables in 46 CFR parts 2, 24, 30, 70, 90, and 188 with the current statutory definition of “seagoing barge,” (“a non-self-propelled vessel of at least 100 gross tons . . . making voyages beyond the Boundary Line;” 46 U.S.C. 2101(32)), and with the current statutory exemption for seagoing barges from inspection and certification when the barges are unmanned and not carrying hazardous material as cargo, or a flammable or combustible liquid, including oil, in bulk. 46 U.S.C. 3302(m).

As stated above, seagoing barges have been exempt from inspection since 1996, as defined in 46 U.S.C. 3302(m). In the Preliminary Regulatory Analysis for the NPRM, we anticipated that there would be no cost to implement this rule. The benefit of this final rule is eliminating regulatory ambiguity and aligning regulatory language with that of current statutes. We received no public comments that would alter our assessment of the impacts discussed in the NPRM. We received no additional information or data that would alter our assessment of the impacts on industry; therefore, we adopt the Preliminary Regulatory Analysis for the NPRM as final.

B. Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

We received no public comments and received no additional information or data that would alter our assessment of the impacts on small entities as discussed in the NPRM. This final rule will not result in additional costs for small entities because the Coast Guard is aligning the text of the regulations with current statutory language. The Coast Guard currently does not require the inspection of 46 U.S.C. 3302(m)-exempt seagoing barges, so finalizing this rule will impose no additional impacts (costs or cost savings) to small entities. Therefore, the Coast Guard certifies under 5 U.S.C. 605(b) that this final rule will not have a significant economic impact on a substantial number of small entities.

C. Assistance for Small Entities

Under section 213(a) of the Small Business Regulatory Enforcement Fairness Act of 1996 (Pub. L. 104-121), we offered to assist small entities in understanding the rule so that they could better evaluate its effects on them and participate in the rulemaking. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This rule calls for no new collection of information under the Paperwork Reduction Act of 1995 (44 U.S.C. 3501-3520).

E. Federalism

A rule has implications for federalism under Executive Order 13132, Federalism, if it has a substantial direct effect on the States, on the relationship between the national government and the States, or on the distribution of power and responsibilities among the various levels of government. We have analyzed this rule under that Order and have determined that it is consistent with the fundamental federalism principles and preemption requirements described in Executive Order 13132. A summary of our analysis is provided below.

It is well-settled that States may not regulate in categories reserved for regulation by the Coast Guard. It is also well-settled, now, that all of the categories covered in 46 U.S.C. 3306, 3703, 7101, and 8101 (design, construction, alteration, repair, maintenance, operation, equipping, personnel qualification, and manning of vessels), as well as the reporting of casualties and any other category in which Congress intended the Coast Guard to be the sole source of a vessel's obligations, are within the field foreclosed from regulation by the States. (See the decision of the Supreme Court in the consolidated cases of United States v. Locke and Intertanko v. Locke, 529 U.S. 89, 120 S.Ct. 1135 (March 6, 2000).) As noted above, the purpose of this rule is to eliminate existing ambiguities in the regulations in order to clarify how seagoing barges are certificated and inspected. Because the States may not regulate the process of certification and inspection for inspected seagoing barges, nor may they regulate within the categories noted above relating to these barges, the rule is consistent with the principles of federalism and preemption requirements in Executive Order 13132.

F. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

G. Taking of Private Property

This rule will not cause a taking of private property or otherwise have taking implications under E.O. 12630, Governmental Actions and Interference with Constitutionally Protected Property Rights.

H. Civil Justice Reform

This rule meets applicable standards in sections 3(a) and 3(b)(2) of E.O. 12988, Civil Justice Reform, to minimize litigation, eliminate ambiguity, and reduce burden.

I. Protection of Children

We have analyzed this rule under E.O. 13045, Protection of Children from Environmental Health Risks and Safety Risks. This rule is not an economically significant rule and does not create an environmental risk to health or risk to safety that may disproportionately affect children.

J. Indian Tribal Governments

This rule does not have tribal implications under E.O. 13175, Consultation and Coordination with Indian Tribal Governments, because it does not have a substantial direct effect on one or more Indian tribes, on the relationship between the Federal Government and Indian tribes, or on the distribution of power and responsibilities between the Federal Government and Indian tribes.

K. Energy Effects

We have analyzed this rule under E.O. 13211, Actions Concerning Regulations That Significantly Affect Energy Supply, Distribution, or Use. We have determined that it is not a “significant energy action” under that order because it is not a “significant regulatory action” under E.O. 12866 and is not likely to have a significant adverse effect on the supply, distribution, or use of energy.

L. Technical Standards

The National Technology Transfer and Advancement Act (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

M. Environment

We have analyzed this rule under Department of Homeland Security Management Directive 023-01 and Commandant Instruction M16475.lD, which guide the Coast Guard in complying with the National Environmental Policy Act of 1969 (42 U.S.C. 4321-4370f), and have concluded that this action is one of a category of actions that do not individually or cumulatively have a significant effect on the human environment. This rule is categorically excluded under section 2.B.2, figure 2-1, paragraph (34)(a) and (d) of the Instruction. This rule involves amendments to regulations which are editorial or procedural and regulations concerning documentation and inspection of vessels. An environmental analysis checklist and a categorical exclusion determination are available in the docket where indicated under ADDRESSES.

List of Subjects

46 CFR Part 2

Incorporation by reference, Marine safety, Reporting and recordkeeping requirements, Vessels.

46 CFR Part 24

Marine safety.

46 CFR Part 30

Cargo vessels, Foreign relations, Hazardous materials transportation, Incorporation by reference, Penalties, Reporting and recordkeeping requirements, Seamen.

46 CFR Part 70

Marine safety, Passenger vessels, Reporting and recordkeeping requirements.

46 CFR Part 90

Cargo vessels, Marine safety.

46 CFR Part 91

Cargo vessels, Marine safety, Reporting and recordkeeping requirements.

46 CFR Part 188

Marine safety, Oceanographic research vessels.

For the reasons discussed in the preamble, the Coast Guard amends 46 CFR parts 2, 24, 30, 70, 90, 91, and 188 as follows:

PART 2—VESSEL INSPECTIONS

1. The authority citation for part 2 continues to read as follows:

Authority: Sec. 622, Pub. L. 111-281; 33 U.S.C. 1903; 43 U.S.C. 1333; 46 U.S.C. 2110, 3103, 3205, 3306, 3307, 3703; 46 U.S.C. Chapter 701; E.O. 12234, 45 FR 58801, 3 CFR, 1980 Comp., p. 277; Department of Homeland Security Delegation No. 0170.1.

2. In § 2.01-7, Table 2.01-7(a) is revised to read as follows:

§ 2.01-7 Classes of vessels (including motorboats) examined or inspected and certificated.

(a) * * *

Table 2.01-7(a)
Method of propulsion, qualified by size or other limitation ¹ | Vessels inspected and certificated under Subchapter D—Tank Vessels ² | Vessels inspected and certificated under Subchapter H—Passenger Vessels ² ³ ⁴ ⁵ or Subchapter K or T—Small Passenger Vessels ² ³ ⁴ | Vessels inspected and certificated under Subchapter I—Cargo and Miscellaneous Vessels ² ⁵ | Vessels subject to the provisions of Subchapter C—Uninspected Vessels. ² ³ ⁶ ⁷ ⁸ | Vessels subject to the provisions of Subchapter U—Oceanographic Vessels ² ³ ⁶ ⁷ ⁹ | Vessels subject to the provisions of Subchapter O—Certain Bulk and Dangerous Cargoes ¹⁰
Column 1 | Column 2 | Column 3 | Column 4 | Column 5 | Column 6 | Column 7
(1) Motor, all vessels except seagoing motor vessels ≥300 gross tons | All vessels carrying combustible or flammable liquid cargo in bulk.⁵ | (i) All vessels carrying more than 12 passengers on an international voyage, except recreational vessels not engaged in trade.⁷ (ii) All vessels <100 gross tons that— | All vessels >15 gross tons carrying freight-for-hire, except those covered by columns 2 and 3. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (A) Carry more than 6 passengers-for-hire whether chartered or not, or
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vessels not engaged in trade.
|  | (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
(2) Motor, seagoing motor vessels ≥300 gross tons | All vessels carrying combustible or flammable liquid cargo in bulk.⁵ | (i) All vessels carrying more than 12 passengers on an international voyage, except recreational vessels not engaged in trade.⁷ | All vessels, including recreational vessels, not engaged in trade. This does not include vessels covered by columns 2 and 3, and vessels engaged in the fishing industry | All vessels not covered by columns 2, 3, 4, 6, and 7 | All vessels engaged in oceanographic research | All vessels carrying cargoes in bulk that are listed in part 153, table 1, or part 154, table 4, or unlisted cargoes that would otherwise be subject to these parts.¹²
|  | (ii) All ferries <100 gross tons carrying more than 6 passengers and all ferries ≥100 gross tons that carry at least 1 passenger.
|  | (iii) These regulations do not apply to—
|  | (A) Recreational vessels not engaged in trade.
|  | (B) Documented cargo or tank vessels issued a permit to carry 16 or fewer persons in addition to the crew.
|  | (C) Fishing vessels not engaged in ocean or coastwise service may carry persons on the legitimate business of the vessel⁶ in addition to the crew, as restricted by the definition of passenger.⁷
(3) Non-self-propelled vessels <100 gross tons | All vessels carrying combustible or flammable liquid cargo in bulk.⁵ | (i) All vessels that— (A) Carry more than 6 passengers-for-hire whether chartered or not, or (B) Carry more than 6 passengers when chartered with the crew provided, or (C) Carry more than 12 passengers when chartered with no crew provided, or | All manned barges except those covered by columns 2 and 3 | All barges carrying passengers or passengers-for-hire except those covered by column 3 | None | All tank barges carrying cargoes listed in Table 151.05 of this chapter or unlisted cargoes that would otherwise be subject to part 151.¹ ¹¹ ¹²
|  | (D) Carry at least 1 passenger-for-hire and is a submersible vessel.⁷
|  | (E) Carry more than 12 passengers on an international voyage.
|  | (F) Carry more than 6 passengers and are ferries.
(4) Non-self-propelled vessels ≥100 gross tons | All vessels carrying combustible or flammable liquid cargo in bulk.⁵ | (iii) All vessels that— (A) Carry more than 12 passengers-for-hire whether chartered or not, or (B) Carry more than 12 passengers when chartered with the crew provided, or (C) Carry more than 12 passengers when chartered with no crew provided, or (D) Carry at least 1 passenger-for-hire and is a submersible vessel.⁷ | All seagoing barges except a seagoing barge that is covered by column 2 or 3, or that is unmanned for the purposes of operating or navigating the barge, and that carries neither a hazardous material as cargo nor a flammable or combustible liquid, including oil, in bulk quantities of 250 barrels or more | All barges carrying passengers or passengers-for-hire except those covered by columns 3 and 6 | All seagoing barges engaged in oceanographic research | All tank barges carrying cargoes listed in Table 151.05 of this chapter or unlisted cargoes that would otherwise be subject to part 151.¹ ¹¹ ¹²
|  | (E) Carry more than 12 passengers on an international voyage.
|  | (F) Carry at least 1 passenger and are ferries
(5) Sail ¹³ vessels ≤700 gross tons | All vessels carrying combustible or flammable liquid cargo in bulk.⁵ | (i) All vessels carrying more than 12 passengers on an international voyage, except recreational vessels not engaged in trade.⁷ | All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (ii) All vessels <100 gross tons that—
|  | (A) Carry more than 6 passengers-for-hire whether chartered or not, or
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vehicles not engaged in trade.
|  | (B) Documented cargo or tank vessels issued a permit to carry 16 or fewer persons in addition to the crew.
|  | (C) Fishing vessels, not engaged in ocean or coastwise service. Such vessels may carry persons on the legitimate business of the vessel⁶ in addition to the crew, as restricted by the definition of passenger.⁷
(6) Sail¹³ vessels >700 gross tons | All vessels carrying combustible or flammable liquid cargo in bulk.⁵ | (i) All vessels carrying passengers or passengers-for-hire, except recreational vessels.⁷ (ii) All ferries that carry at least 1 passenger | All vessels carrying dangerous cargoes, when required by 46 CFR part 98 | None | None | All vessels carrying cargoes in bulk that are listed in part 153, Table 1, or part 154, Table 4, or unlisted cargoes that would otherwise be subject to these parts.¹²
(7) Steam, vessels ≤19.8 meters (65 feet) in length | All vessels carrying combustible or flammable liquid cargo in bulk.⁵ | (i) All vessels carrying more than 12 passengers on an international voyage, except recreational vessels not engaged in trade.⁷ | All tugboats and towboats. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (ii) All vessels <100 gross tons that-
|  | (A) Carry more than 6 passengers-for-hire whether chartered or not, or
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that-
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vessels not engaged in trade.
|  | (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
(8) Steam, vessels >19.8 meters (65 feet) in length | All vessels carrying combustible or flammable liquid cargo in bulk.⁵ | (i) All vessels carrying more than 12 passengers on an international voyage, except recreational vessels not engaged in trade.⁷ | All vessels not covered by columns 2, 3, 6, and 7 | None | All vessels engaged in oceanographic research | All vessels carrying cargoes in bulk that are listed in part 153, Table 1, or part 154, Table 4, or unlisted cargoes that would otherwise be subject to these parts.¹²
|  | (ii) All vessels <100 gross tons that—
|  | (A) Carry more than 6 passengers-for-hire whether chartered or not, or
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vehicles not engaged in trade.
|  | (B) Documented cargo or tank vessels issued a permit to carry 16 or fewer persons in addition to the crew.
|  | (C) Fishing vessels not engaged in ocean or coastwise service. Such vessels may carry persons on the legitimate business of the vessel⁶ in addition to the crew, as restricted by the definition of passenger.⁷
Key to symbols used in this table: ≤ means less than or equal to; > means greater than; < means less than; and ≥ means greater than or equal to.
Footnotes:
¹ Where length is used in this table, it means the length measured from end to end over the deck, excluding sheer. This expression means a straight line measurement of the overall length from the foremost part of the vessel to the aftermost part of the vessel, measured parallel to the centerline.
² Subchapters E (Load Lines), F (Marine Engineering), J (Electrical Engineering), N (Dangerous Cargoes), S (Subdivision and Stability), and W (Lifesaving Appliances and Arrangements) of this chapter may also be applicable under certain conditions. The provisions of 49 CFR parts 171 through 179 apply whenever packaged hazardous materials are on board vessels (including motorboats), except when specifically exempted by law.
³ Public nautical schoolships, other than vessels of the Navy and Coast Guard, must meet the requirements of part 167 of subchapter R (Nautical Schools) of this chapter, Civilian nautical schoolships, as defined by 46 U.S.C. 1331, must meet the requirements of subchapter H (Passenger Vessels) and part 168 of subchapter R (Nautical Schools) of this chapter.
⁴ Subchapter H (Passenger Vessels) of this chapter covers only those vessels of 100 gross tons or more, subchapter T (Small Passenger Vessels) of this chapter covers only those vessels of less than 100 gross tons, and subchapter K (Small Passenger Vessels) of this chapter covers only those vessels less than 100 gross tons carrying more than 150 passengers or overnight accommodations for more than 49 passengers.
⁵ Vessels covered by subchapter H (Passenger Vessels) or I (Cargo and Miscellaneous Vessels) of this chapter, where the principal purpose or use of the vessel is not for the carriage of liquid cargo, may be granted a permit to carry a limited amount of flammable or combustible liquid cargo in bulk. The portion of the vessel used for the carriage of the flammable or combustible liquid cargo must meet the requirements of subchapter D (Tank Vessels) in addition to the requirements of subchapter H (Passenger Vessels) or I (Cargo and Miscellaneous Vessels) of this chapter.
⁶ Any vessel on an international voyage is subject to the requirements of the International Convention for Safety of Life at Sea, 1974 (SOLAS).
⁷ The terms “passenger(s)” and “passenger(s)-for-hire” are as defined in 46 U.S.C. 2101(21)(21a). On oceanographic vessels, scientific personnel onboard shall not be deemed to be passengers nor seamen, but for calculations of lifesaving equipment, etc., must be counted as persons.
⁸ Boilers and machinery are subject to examination on vessels over 40 feet in length.
⁹ Under 46 U.S.C. 441 an oceanographic research vessel “. . . being employed exclusively in instruction in oceanography or limnology, or both, or exclusively in oceanographic research, . . .. Under 46 U.S.C. 443, “an oceanographic research vessel shall not be deemed to be engaged in trade or commerce.” If or when an oceanographic vessel engages in trade or commerce, such vessel cannot operate under its certificate of inspection as an oceanographic vessel, but shall be inspected and certified for the service in which engaged, and the scientific personnel aboard then become persons employed in the business of the vessel.
¹⁰ Bulk dangerous cargoes are cargoes specified in table 151.01-10(b); in table 1 of part 153, and in table 4 of part 154 of this chapter.
¹¹ For manned tankbarges, see § 151.01-10(c) of this chapter.
¹² See § 151.01-15, 153.900(d), or 154.30 of this chapter as appropriate.
¹³ Sail vessel means a vessel with no auxiliary machinery on board. If the vessel has auxiliary machinery, refer to motor vessels.

PART 24—GENERAL PROVISIONS

3. The authority citation for part 24 continues to read as follows:

Authority: 46 U.S.C. 2113, 3306, 4104, 4302; Pub. L. 103-206; 107 Stat. 2439; E.O. 12234; 45 FR 58801, 3 CFR, 1980 Comp., p. 277; Department of Homeland Security Delegation No. 0170.1.

4. In § 24.05-1(a), Table 24.05-1(a) is revised to read as follows:

§ 24.05-1 Vessels subject to the requirements of this subchapter.

(a) * * *

Table 24.05-1(a)
Method of propulsion, qualified by size or other limitation ¹ | Vessels inspected and certificated under Subchapter D—Tank Vessels ² | Vessels inspected and certificated under Subchapter H—Passenger Vessels ² ³ ⁴ ⁵ or Subchapter K or T—Small Passenger Vessels ² ³ ⁴ | Vessels inspected and certificated under Subchapter I—Cargo and Miscellaneous Vessels ² ⁵ | Vessels subject to the provisions of Subchapter C—Uninspected Vessels.² ³ ⁶ ⁷ ⁸ | Vessels subject to the provisions of Subchapter U—Oceanographic Vessels ² ³ ⁶ ⁷ ⁹ | Vessels subject to the provisions of Subchapter O—Certain Bulk and Dangerous Cargoes ¹⁰
Column 1 | Column 2 | Column 3 | Column 4 | Column 5 | Column 6 | Column 7
(1) Motor, all vessels except seagoing motor vessels ≥300 gross tons | All vessels carrying combustible or flammable liquid cargo in bulk.⁵ | (i) All vessels carrying more than 12 passengers on an international voyage, except recreational vessels not engaged in trade.⁷ (ii) All vessels <100 gross tons that— | All vessels >15 gross tons carrying freight-for-hire, except those covered by columns 2 and 3. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (A) Carry more than 6 passengers-for-hire whether chartered or not, or
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vessels not engaged in trade.
|  | (B) Documented cargo or tank vessels issued a permit to carry 16 or fewer persons in addition to the crew.
|  | (C) Fishing vessels not engaged in ocean or coastwise service. Such vessels may carry persons on the legitimate business of the vessel⁶ in addition to the crew, as restricted by the definition of passenger.⁷
(2) Motor, seagoing motor vessels ≥300 gross tons | All vessels carrying combustible or flammable liquid cargo in bulk.⁵ | (i) All vessels carrying more than 12 passengers on an international voyage, except recreational vessels not engaged in trade.⁷ (ii) All ferries <100 gross tons carrying more than 6 passengers and all ferries ≥100 gross tons that carry at least 1 passenger. | All vessels, including recreational vessels, not engaged in trade. This does not include vessels covered by columns 2 and 3, and vessels engaged in the fishing industry | All vessels not covered by columns 2, 3, 4, 6, and 7 | All vessels engaged in oceanographic research | All vessels carrying cargoes in bulk that are listed in part 153, table 1, or part 154, table 4, or unlisted cargoes that would otherwise be subject to these parts.¹²
|  | (iii) These regulations do not apply to—
|  | (A) Recreational vessels not engaged in trade.
|  | (B) Documented cargo or tank vessels issued a permit to carry 16 or fewer persons in addition to the crew.
|  | (C) Fishing vessels not engaged in ocean or coastwise service may carry persons on the legitimate business of the vessel ⁶ in addition to the crew, as restricted by the definition of passenger.⁷
(3) Non-self-propelled vessels <100 gross tons | All vessels carrying combustible or flammable liquid cargo in bulk.⁵ | (i) All vessels that— (A) Carry more than 6 passengers-for-hire whether chartered or not, or (B) Carry more than 6 passengers when chartered with the crew provided, or (C) Carry more than 12 passengers when chartered with no crew provided, or | All manned barges except those covered by columns 2 and 3 | All barges carrying passengers or passengers-for-hire except those covered by column 3 | None | All tank barges carrying cargoes listed in Table 151.05 of this chapter or unlisted cargoes that would otherwise be subject to part 151.¹ ¹¹ ¹²
|  | (D) Carry at least 1 passenger-for-hire and is a submersible vessel.⁷
|  | (E) Carry more than 12 passengers on an international voyage.
|  | (F) Carry more than 6 passengers and are ferries.
(4) Non-self-propelled vessels ≥100 gross tons | All vessels carrying combustible or flammable liquid cargo in bulk.⁵ | (iii) All vessels that— (A) Carry more than 12 passengers-for-hire whether chartered or not, or (B) Carry more than 12 passengers when chartered with the crew provided, or (C) Carry more than 12 passengers when chartered with no crew provided, or | All seagoing barges except a seagoing barge that is covered by column 2 or 3, or that is unmanned for the purposes of operating or navigating the barge, and that carries neither a hazardous material as cargo nor a flammable or combustible liquid, including oil, in bulk quantities of 250 barrels or more | All barges carrying passengers or passengers-for-hire except those covered by columns 3 and 6 | All seagoing barges engaged in oceanographic research | All tank barges carrying cargoes listed in Table 151.05 of this chapter or unlisted cargoes that would otherwise be subject to part 151.¹ ¹¹ ¹²
|  | (D) Carry at least 1 passenger-for-hire and is a submersible vessel.⁷
|  | (E) Carry more than 12 passengers on an international voyage.
|  | (F) Carry at least 1 passenger and are ferries.
(5) Sail ¹³ vessels ≤700 gross tons | All vessels carrying combustible or flammable liquid cargo in bulk.⁵ | (i) All vessels carrying more than 12 passengers on an international voyage, except recreational vessels not engaged in trade.⁷ (ii) All vessels <100 gross tons that— | All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (A) Carry more than 6 passengers-for-hire whether chartered or not, or
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that-
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vehicles not engaged in trade.
|  | (B) Documented cargo or tank vessels issued a permit to carry 16 or fewer persons in addition to the crew.
|  | (C) Fishing vessels, not engaged in ocean or coastwise service. Such vessels may carry persons on the legitimate business of the vessel⁶ in addition to the crew, as restricted by the definition of passenger.⁷
(6) Sail ¹³ vessels >700 gross tons | All vessels carrying combustible or flammable liquid cargo in bulk.⁵ | (i) All vessels carrying passengers or passengers-for-hire, except recreational vessels.⁷ (ii) All ferries that carry at least 1 passenger. | All vessels carrying dangerous cargoes, when required by 46 CFR part 98 | None | None | All vessels carrying cargoes in bulk that are listed in part 153, table 1, or part 154, table 4, or unlisted cargoes that would otherwise be subject to these parts.¹²
(7) Steam, vessels ≤19.8 meters (65 feet) in length | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or | All tugboats and towboats. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vessels not engaged in trade.
|  | (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
(8) Steam, vessels >19.8 meters (65 feet) in length | All vessels carrying combustible or flammable liquid cargo in bulk.⁵ | (i) All vessels carrying more than 12 passengers on an international voyage, except recreational vessels not engaged in trade.⁷ (ii) All vessels <100 gross tons that— | All vessels not covered by columns 2, 3, 6, and 7 | None | All vessels engaged in oceanographic research | All vessels carrying cargoes in bulk that are listed in part 153, table 1, or part 154, table 4, or unlisted cargoes that would otherwise be subject to these parts.¹²
|  | (A) Carry more than 6 passengers-for-hire whether chartered or not, or
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vehicles not engaged in trade.
|  | (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
Key to symbols used in this table: ≤ means less than or equal to; > means greater than; < means less than; and ≥ means greater than or equal to.
¹ Where length is used in this table, it means the length measured from end to end over the deck, excluding sheer. This expression means a straight line measurement of the overall length from the foremost part of the vessel to the aftermost part of the vessel, measured parallel to the centerline.
² Subchapters E (Load Lines), F (Marine Engineering), J (Electrical Engineering), N (Dangerous Cargoes), S (Subdivision and Stability), and W (Lifesaving Appliances and Arrangements) of this chapter may also be applicable under certain conditions. The provisions of 49 CFR parts 171 through 179 apply whenever packaged hazardous materials are on board vessels (including motorboats), except when specifically exempted by law.
³ Public nautical schoolships, other than vessels of the Navy and Coast Guard, must meet the requirements of part 167 of subchapter R (Nautical Schools) of this chapter, Civilian nautical schoolships, as defined by 46 U.S.C. 1331, must meet the requirements of subchapter H (Passenger Vessels) and part 168 of subchapter R (Nautical Schools) of this chapter.
⁴ Subchapter H (Passenger Vessels) of this chapter covers only those vessels of 100 gross tons or more, subchapter T (Small Passenger Vessels) of this chapter covers only those vessels of less than 100 gross tons, and subchapter K (Small Passenger Vessels) of this chapter covers only those vessels less than 100 gross tons carrying more than 150 passengers or overnight accommodations for more than 49 passengers.
⁵ Vessels covered by subchapter H (Passenger Vessels) or I (Cargo and Miscellaneous Vessels) of this chapter, where the principal purpose or use of the vessel is not for the carriage of liquid cargo, may be granted a permit to carry a limited amount of flammable or combustible liquid cargo in bulk. The portion of the vessel used for the carriage of the flammable or combustible liquid cargo must meet the requirements of subchapter D (Tank Vessels) in addition to the requirements of subchapter H (Passenger Vessels) or I (Cargo and Miscellaneous Vessels) of this chapter.
⁶ Any vessel on an international voyage is subject to the requirements of the International Convention for Safety of Life at Sea, 1974 (SOLAS).
⁷ The terms “passenger(s)” and “passenger(s)-for-hire” are as defined in 46 U.S.C. 2101(21)(21a). On oceanographic vessels, scientific personnel onboard shall not be deemed to be passengers nor seamen, but for calculations of lifesaving equipment, etc., must be counted as persons.
⁸ Boilers and machinery are subject to examination on vessels over 40 feet in length.
⁹ Under 46 U.S.C. 441 an oceanographic research vessel “. . . being employed exclusively in instruction in oceanography or limnology, or both, or exclusively in oceanographic research, . . .. Under 46 U.S.C. 443, “an oceanographic research vessel shall not be deemed to be engaged in trade or commerce.” If or when an oceanographic vessel engages in trade or commerce, such vessel cannot operate under its certificate of inspection as an oceanographic vessel, but shall be inspected and certified for the service in which engaged, and the scientific personnel aboard then become persons employed in the business of the vessel.
¹⁰ Bulk dangerous cargoes are cargoes specified in table 151.01-10(b); in table 1 of part 153, and in table 4 of part 154 of this chapter.
¹¹ For manned tankbarges, see § 151.01-10(c) of this chapter.
¹² See § 151.01-15, 153.900(d), or 154.30 of this chapter as appropriate.
¹³ Sail vessel means a vessel with no auxiliary machinery on board. If the vessel has auxiliary machinery, refer to motor vessels.

PART 30—GENERAL PROVISIONS

5. The authority citation for part 30 continues to read as follows:

Authority: 46 U.S.C. 2103, 3306, 3703; Pub. L. 103-206, 107 Stat. 2439; 49 U.S.C. 5103, 5106; Department of Homeland Security Delegation No. 0170.1; Section 30.01-2 also issued under the authority of 44 U.S.C. 3507; Section 30.01-05 also issued under the authority of Sec. 4109, Pub. L. 101-380, 104 Stat. 515.

6. In § 30.01-5, Table 30.01-5(d) is revised to read as follows:

§ 30.01-5 Application of regulations-TB/ALL.

* * * * *

(d) * * *

Table 30.01—5(d)
Method of propulsion, qualified by size or other limitation ¹ | Vessels inspected and certificated under Subchapter D—Tank Vessels ² | Vessels inspected and certificated under Subchapter H—Passenger Vessels 2 3 4 5 or Subchapter K or T—Small Passenger Vessels2 3 4 | Vessels inspected and certificated under Subchapter I—Cargo and Miscellaneous Vessels2 5 | Vessels subject to the provisions of Subchapter C—Uninspected Vessels2 3 6 7 8 | Vessels subject to the provisions of Subchapter U—Oceanographic Vessels2 3 6 7 9 | Vessels subject to the provisions of Subchapter O—Certain Bulk and Dangerous Cargoes ¹⁰
Column 1 | Column 2 | Column 3 | Column 4 | Column 5 | Column 6 | Column 7
(1) Motor, all vessels except seagoing motor vessels ≥300 gross tons | All vessels carrying combustible or flammable liquid cargo in bulk.⁵ | (i) All vessels carrying more than 12 passengers on an international voyage, except recreational vessels not engaged in trade.⁷ (ii) All vessels <100 gross tons that— | All vessels >15 gross tons carrying freight-for-hire, except those covered by columns 2 and 3. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (A) Carry more than 6 passengers-for-hire whether chartered or not, or
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vessels not engaged in trade
|  | (B) Documented cargo or tank vessels issued a permit to carry 16 or fewer persons in addition to the crew
|  | (C) Fishing vessels not engaged in ocean or coastwise service. Such vessels may carry persons on the legitimate business of the vessel ⁶ in addition to the crew, as restricted by the definition of passenger.⁷
(2) Motor, seagoing motor vessels ≥300 gross tons | All vessels carrying combustible or flammable liquid cargo in bulk.⁵ | (i) All vessels carrying more than 12 passengers on an international voyage, except recreational vessels not engaged in trade.⁷ (ii) All ferries <100 gross tons carrying more than 6 passengers and all ferries ≥100 gross tons that carry at least 1 passenger | All vessels, including recreational vessels, not engaged in trade. This does not include vessels covered by columns 2 and 3, and vessels engaged in the fishing industry | All vessels not covered by columns 2, 3, 4, 6, and 7 | All vessels engaged in oceanographic research | All vessels carrying cargoes in bulk that are listed in part 153, table 1, or part 154, table 4, or unlisted cargoes that would otherwise be subject to these parts.¹²
|  | (iii) These regulations do not apply to—
|  | (A) Recreational vessels not engaged in trade
|  | (B) Documented cargo or tank vessels issued a permit to carry 16 or fewer persons in addition to the crew
|  | (C) Fishing vessels not engaged in ocean or coastwise service may carry persons on the legitimate business of the vessel ⁶ in addition to the crew, as restricted by the definition of passenger.⁷
(3) Non-self-propelled vessels <100 gross tons | All vessels carrying combustible or flammable liquid cargo in bulk.⁵ | (i) All vessels that— (A) Carry more than 6 passengers-for-hire whether chartered or not, or (B) Carry more than 6 passengers when chartered with the crew provided, or | All manned barges except those covered by columns 2 and 3 | All barges carrying passengers or passengers-for-hire except those covered by column 3 | None | All tank barges carrying cargoes listed in Table 151.05 of this chapter or unlisted cargoes that would otherwise be subject to part 151.1 11 12
|  | (C) Carry more than 12 passengers when chartered with no crew provided, or
|  | (D) Carry at least 1 passenger-for-hire and is a submersible vessel.⁷
|  | (E) Carry more than 12 passengers on an international voyage
|  | (F) Carry more than 6 passengers and are ferries
(4) Non-self-propelled vessels ≥100 gross tons | All vessels carrying combustible or flammable liquid cargo in bulk.⁵ | (iii) All vessels that— (A) Carry more than 12 passengers-for-hire whether chartered or not, or (B) Carry more than 12 passengers when chartered with the crew provided, or (C) Carry more than 12 passengers when chartered with no crew provided, or (D) Carry at least 1 passenger-for-hire and is a submersible vessel.⁷ | All seagoing barges except a seagoing barge that is covered by column 2 or 3, or that is unmanned for the purposes of operating or navigating the barge, and that carries neither a hazardous material as cargo nor a flammable or combustible liquid, including oil, in bulk quantities of 250 barrels or more | All barges carrying passengers or passengers-for-hire except those covered by columns 3 and 6 | All seagoing barges engaged in oceanographic research | All tank barges carrying cargoes listed in Table 151.05 of this chapter or unlisted cargoes that would otherwise be subject to part 151.1 11 12
|  | (E) Carry more than 12 passengers on an international voyage
|  | (F) Carry at least 1 passenger and are ferries
(5) Sail ¹³ vessels ≤700 gross tons | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or | All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (B) Carry more than 6 passengers when chartered with the crew provided, or
|  | (C) Carry more than 12 passengers when chartered with no crew provided, or
|  | (D) Carry at least 1 passenger-for-hire and are submersible vessels.⁷
|  | (E) Carry more than 6 passengers and are ferries
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries
|  | (iv) These regulations do not apply to—
|  | (A) Recreational vehicles not engaged in trade
|  | (B) Documented cargo or tank vessels issued a permit to carry 16 or fewer persons in addition to the crew
|  | (C) Fishing vessels, not engaged in ocean or coastwise service. Such vessels may carry persons on the legitimate business of the vessel ⁶ in addition to the crew, as restricted by the definition of passenger.⁷
(6) Sail ¹³ vessels >700 gross tons | All vessels carrying combustible or flammable liquid cargo in bulk.⁵ | (i) All vessels carrying passengers or passengers-for-hire, except recreational vessels.⁷ (ii) All ferries that carry at least 1 passenger | All vessels carrying dangerous cargoes, when required by 46 CFR part 98 | None | None | All vessels carrying cargoes in bulk that are listed in part 153, table 1, or part 154, table 4, or unlisted cargoes that would otherwise be subject to these parts.¹²
(7) Steam, vessels ≤19.8 meters (65 feet) in length | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or | All tugboats and towboats. All vessels carrying dangerous cargoes, when required by 46 CFR part 98 | All vessels not covered by columns 2, 3, 4, and 6 | None. | All vessels carrying cargoes in bulk that are listed in part 153, table 1, or part 154, table 4, or unlisted cargoes that would otherwise be subject to these parts.¹²
|  | (B) Carry more than 6 passengers when chartered with the crew provided, or
|  | (C) Carry more than 12 passengers when chartered with no crew provided, or
|  | (D) Carry at least 1 passenger-for-hire and are submersible vessels.⁷
|  | (E) Carry more than 6 passengers and are ferries
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries
|  | (iv) These regulations do not apply to—
|  | (A) Recreational vessels not engaged in trade
|  | (B) Documented cargo or tank vessels issued a permit to carry 16 or fewer persons in addition to the crew
|  | (C) Fishing vessels not engaged in ocean or coastwise service. Such vessels may carry persons on the legitimate business of the vessel ⁶ in addition to the crew, as restricted by the definition of passenger.⁷
(8) Steam, vessels >19.8 meters (65 feet) in length | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or | All vessels not covered by columns 2, 3, 6, and 7 | None | All vessels engaged in oceanographic research | All vessels carrying cargoes in bulk that are listed in part 153, table 1, or part 154, table 4, or unlisted cargoes that would otherwise be subject to these parts.¹²
|  | (B) Carry more than 6 passengers when chartered with the crew provided, or
|  | (C) Carry more than 12 passengers when chartered with no crew provided, or
|  | (D) Carry at least 1 passenger-for-hire and are submersible vessels.⁷
|  | (E) Carry more than 6 passengers and are ferries
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries
|  | (iv) These regulations do not apply to—
|  | (A) Recreational vehicles not engaged in trade
|  | (B) Documented cargo or tank vessels issued a permit to carry 16 or fewer persons in addition to the crew
|  | (C) Fishing vessels not engaged in ocean or coastwise service. Such vessels may carry persons on the legitimate business of the vessel ⁶ in addition to the crew, as restricted by the definition of passenger.⁷
Key to symbols used in this table: ≤ means less than or equal to; > means greater than; < means less than; and ≥ means greater than or equal to.
Footnotes:
¹ Where length is used in this table, it means the length measured from end to end over the deck, excluding sheer. This expression means a straight line measurement of the overall length from the foremost part of the vessel to the aftermost part of the vessel, measured parallel to the centerline.
² Subchapters E (Load Lines), F (Marine Engineering), J (Electrical Engineering), N (Dangerous Cargoes), S (Subdivision and Stability), and W (Lifesaving Appliances and Arrangements) of this chapter may also be applicable under certain conditions. The provisions of 49 CFR parts 171 through 179 apply whenever packaged hazardous materials are on board vessels (including motorboats), except when specifically exempted by law.
³ Public nautical schoolships, other than vessels of the Navy and Coast Guard, must meet the requirements of part 167 of subchapter R (Nautical Schools) of this chapter, Civilian nautical schoolships, as defined by 46 U.S.C. 1331, must meet the requirements of subchapter H (Passenger Vessels) and part 168 of subchapter R (Nautical Schools) of this chapter.
⁴ Subchapter H (Passenger Vessels) of this chapter covers only those vessels of 100 gross tons or more, subchapter T (Small Passenger Vessels) of this chapter covers only those vessels of less than 100 gross tons, and subchapter K (Small Passenger Vessels) of this chapter covers only those vessels less than 100 gross tons carrying more than 150 passengers or overnight accommodations for more than 49 passengers.
⁵ Vessels covered by subchapter H (Passenger Vessels) or I (Cargo and Miscellaneous Vessels) of this chapter, where the principal purpose or use of the vessel is not for the carriage of liquid cargo, may be granted a permit to carry a limited amount of flammable or combustible liquid cargo in bulk. The portion of the vessel used for the carriage of the flammable or combustible liquid cargo must meet the requirements of subchapter D (Tank Vessels) in addition to the requirements of subchapter H (Passenger Vessels) or I (Cargo and Miscellaneous Vessels) of this chapter.
⁶ Any vessel on an international voyage is subject to the requirements of the International Convention for Safety of Life at Sea, 1974 (SOLAS).
⁷ The terms “passenger(s)” and “passenger(s)-for-hire” are as defined in 46 U.S.C. 2101(21)(21a). On oceanographic vessels, scientific personnel onboard shall not be deemed to be passengers nor seamen, but for calculations of lifesaving equipment, etc., must be counted as persons.
⁸ Boilers and machinery are subject to examination on vessels over 40 feet in length.
⁹ Under 46 U.S.C. 441 an oceanographic research vessel “. . . being employed exclusively in instruction in oceanography or limnology, or both, or exclusively in oceanographic research, * * *. Under 46 U.S.C. 443, “an oceanographic research vessel shall not be deemed to be engaged in trade or commerce.” If or when an oceanographic vessel engages in trade or commerce, such vessel cannot operate under its certificate of inspection as an oceanographic vessel, but shall be inspected and certified for the service in which engaged, and the scientific personnel aboard then become persons employed in the business of the vessel.
¹⁰ Bulk dangerous cargoes are cargoes specified in table 151.01-10(b); in table 1 of part 153, and in table 4 of part 154 of this chapter.
¹¹ For manned tankbarges, see § 151.01-10(c) of this chapter.
¹² See § 151.01-15, 153.900(d), or 154.30 of this chapter as appropriate.
¹³ Sail vessel means a vessel with no auxiliary machinery on board. If the vessel has auxiliary machinery, refer to motor vessels.

* * * * *

PART 70—GENERAL PROVISIONS

7. The authority citation for part 70 continues to read as follows:

Authority: 46 U.S.C. 3306, 3703; Pub. L. 103-206, 107 Stat. 2439; 49 U.S.C. 5103, 5106; E.O. 12234, 45 FR 58801, 3 CFR, 1980 Comp., p. 277; Department of Homeland Security Delegation No. 0170.1; Section 70.01-15 also issued under the authority of 44 U.S.C. 3507.

8. In § 70.05-1, Table 70.05-1(a) is revised to read as follows:

§ 70.05-1 United States flag vessels subject to the requirements of this subchapter.

(a) * * *

Table 70.05—1(a)
Method of propulsion, qualified by size or other limitation ¹ | Vessels inspected and certificated under Subchapter D—Tank Vessels ² | Vessels inspected and certificated under Subchapter H—Passenger Vessels 2 3 4 5 or Subchapter K or T—Small Passenger Vessels 2 3 4 | Vessels inspected and certificated under Subchapter I—Cargo and Miscellaneous Vessels 2 5 | Vessels subject to the provisions of Subchapter C—Uninspected Vessels 2 3 6 7 8 | Vessels subject to the provisions of Subchapter U—Oceanographic Vessels 2 3 6 7 9 | Vessels subject to the provisions of Subchapter O—Certain Bulk and Dangerous Cargoes ¹⁰
Column 1 | Column 2 | Column 3 | Column 4 | Column 5 | Column 6 | Column 7
(1) Motor, all vessels except seagoing motor vessels ≥300 gross tons | All vessels carrying combustible or flammable liquid cargo in bulk.⁵ | (i) All vessels carrying more than 12 passengers on an international voyage, except recreational vessels not engaged in trade.⁷ (ii) All vessels <100 gross tons that— | All vessels >15 gross tons carrying freight-for-hire, except those covered by columns 2 and 3. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (A) Carry more than 6 passengers-for-hire whether chartered or not, or
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vessels not engaged in trade.
|  | (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
(2) Motor, seagoing motor vessels ≥300 gross tons | All vessels carrying combustible or flammable liquid cargo in bulk.⁵ | (i) All vessels carrying more than 12 passengers on an international voyage, except recreational vessels not engaged in trade.⁷ (ii) All ferries <100 gross tons carrying more than 6 passengers and all ferries ≥100 gross tons that carry at least 1 passenger | All vessels, including recreational vessels, not engaged in trade. This does not include vessels covered by columns 2 and 3, and vessels engaged in the fishing industry | All vessels not covered by columns 2, 3, 4, 6, and 7 | All vessels engaged in oceanographic research | All vessels carrying cargoes in bulk that are listed in part 153, table 1, or part 154, table 4, or unlisted cargoes that would otherwise be subject to these parts.¹²
|  | (iii) These regulations do not apply to—
|  | (A) Recreational vessels not engaged in trade.
|  | (B) Documented cargo or tank vessels issued a permit to carry 16 or fewer persons in addition to the crew.
|  | (C) Fishing vessels not engaged in ocean or coastwise service may carry persons on the legitimate business of the vessel ⁶ in addition to the crew, as restricted by the definition of passenger.⁷
(3) Non-self-propelled vessels <100 gross tons | All vessels carrying combustible or flammable liquid cargo in bulk.⁵ | (i) All vessels that— (A) Carry more than 6 passengers-for-hire whether chartered or not, or (B) Carry more than 6 passengers when chartered with the crew provided, or | All manned barges except those covered by columns 2 and 3 | All barges carrying passengers or passengers-for-hire except those covered by column 3 | None | All tank barges carrying cargoes listed in Table 151.05 of this chapter or unlisted cargoes that would otherwise be subject to part 151.1 11 12
|  | (C) Carry more than 12 passengers when chartered with no crew provided, or
|  | (D) Carry at least 1 passenger-for-hire and is a submersible vessel.⁷
|  | (E) Carry more than 12 passengers on an international voyage
|  | (F) Carry more than 6 passengers and are ferries.
(4) Non-self-propelled vessels ≥100 gross tons | All vessels carrying combustible or flammable liquid cargo in bulk.⁵ | (iii) All vessels that— (A) Carry more than 12 passengers-for-hire whether chartered or not, or (B) Carry more than 12 passengers when chartered with the crew provided, or (C) Carry more than 12 passengers when chartered with no crew provided, or (D) Carry at least 1 passenger-for-hire and is a submersible vessel.⁷ | All seagoing barges except a seagoing barge that is covered by column 2 or 3, or that is unmanned for the purposes of operating or navigating the barge, and that carries neither a hazardous material as cargo nor a flammable or combustible liquid, including oil, in bulk quantities of 250 barrels or more | All barges carrying passengers or passengers-for-hire except those covered by columns 3 and 6 | All seagoing barges engaged in oceanographic research | All tank barges carrying cargoes listed in Table 151.05 of this chapter or unlisted cargoes that would otherwise be subject to part 151.1 11 12
|  | (E) Carry more than 12 passengers on an international voyage
|  | (F) Carry at least 1 passenger and are ferries
(5) Sail ¹³ vessels ≤700 gross tons | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or | All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vehicles not engaged in trade.
|  | (B) Documented cargo or tank vessels issued a permit to carry 16 or fewer persons in addition to the crew.
|  | (C) Fishing vessels, not engaged in ocean or coastwise service. Such vessels may carry persons on the legitimate business of the vessel ⁶ in addition to the crew, as restricted by the definition of passenger.⁷
(6) Sail ¹³ vessels >700 gross tons | All vessels carrying combustible or flammable liquid cargo in bulk.⁵ | (i) All vessels carrying passengers or passengers-for-hire, except recreational vessels.⁷ (ii) All ferries that carry at least 1 passenger | All vessels carrying dangerous cargoes, when required by 46 CFR part 98 | None | None | All vessels carrying cargoes in bulk that are listed in part 153, table 1, or part 154, table 4, or unlisted cargoes that would otherwise be subject to these parts.¹²
(7) Steam, vessels ≤19.8 meters (65 feet) in length | All vessels carrying combustible or flammable liquid cargo in bulk.⁵ | (i) All vessels carrying more than 12 passengers on an international voyage, except recreational vessels not engaged in trade.⁷ (ii) All vessels <100 gross tons that— | All tugboats and towboats. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (A) Carry more than 6 passengers-for-hire whether chartered or not, or
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vessels not engaged in trade.
|  | (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
(8) Steam, vessels >19.8 meters (65 feet) in length | All vessels carrying combustible or flammable liquid cargo in bulk.⁵ | (i) All vessels carrying more than 12 passengers on an international voyage, except recreational vessels not engaged in trade.⁷ (ii) All vessels <100 gross tons that— | All vessels not covered by columns 2, 3, 6, and 7 | None | All vessels engaged in oceanographic research | All vessels carrying cargoes in bulk that are listed in part 153, table 1, or part 154, table 4, or unlisted cargoes that would otherwise be subject to these parts.¹²
|  | (A) Carry more than 6 passengers-for-hire whether chartered or not, or
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels⁷
|  | (E) Carry at least 1 passenger and are ferries.
|  | (iv) These regulations do not apply to—
|  | (A) Recreational vehicles not engaged in trade.
|  | (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
Key to symbols used in this table: ≤ means less than or equal to; > means greater than; < means less than; and ≥ means greater than or equal to.
Footnotes:
¹ Where length is used in this table, it means the length measured from end to end over the deck, excluding sheer. This expression means a straight line measurement of the overall length from the foremost part of the vessel to the aftermost part of the vessel, measured parallel to the centerline.
² Subchapters E (Load Lines), F (Marine Engineering), J (Electrical Engineering), N (Dangerous Cargoes), S (Subdivision and Stability), and W (Lifesaving Appliances and Arrangements) of this chapter may also be applicable under certain conditions. The provisions of 49 CFR parts 171 through 179 apply whenever packaged hazardous materials are on board vessels (including motorboats), except when specifically exempted by law.
³ Public nautical schoolships, other than vessels of the Navy and Coast Guard, must meet the requirements of part 167 of subchapter R (Nautical Schools) of this chapter, Civilian nautical schoolships, as defined by 46 U.S.C. 1331, must meet the requirements of subchapter H (Passenger Vessels) and part 168 of subchapter R (Nautical Schools) of this chapter.
⁴ Subchapter H (Passenger Vessels) of this chapter covers only those vessels of 100 gross tons or more, subchapter T (Small Passenger Vessels) of this chapter covers only those vessels of less than 100 gross tons, and subchapter K (Small Passenger Vessels) of this chapter covers only those vessels less than 100 gross tons carrying more than 150 passengers or overnight accommodations for more than 49 passengers.
⁵ Vessels covered by subchapter H (Passenger Vessels) or I (Cargo and Miscellaneous Vessels) of this chapter, where the principal purpose or use of the vessel is not for the carriage of liquid cargo, may be granted a permit to carry a limited amount of flammable or combustible liquid cargo in bulk. The portion of the vessel used for the carriage of the flammable or combustible liquid cargo must meet the requirements of subchapter D (Tank Vessels) in addition to the requirements of subchapter H (Passenger Vessels) or I (Cargo and Miscellaneous Vessels) of this chapter.
⁶ Any vessel on an international voyage is subject to the requirements of the International Convention for Safety of Life at Sea, 1974 (SOLAS).
⁷ The terms “passenger(s)” and “passenger(s)-for-hire” are as defined in 46 U.S.C. 2101(21)(21a). On oceanographic vessels, scientific personnel onboard shall not be deemed to be passengers nor seamen, but for calculations of lifesaving equipment, etc., must be counted as persons.
⁸ Boilers and machinery are subject to examination on vessels over 40 feet in length.
⁹ Under 46 U.S.C. 441 an oceanographic research vessel “. . . being employed exclusively in instruction in oceanography or limnology, or both, or exclusively in oceanographic research, * * *. Under 46 U.S.C. 443, “an oceanographic research vessel shall not be deemed to be engaged in trade or commerce.” If or when an oceanographic vessel engages in trade or commerce, such vessel cannot operate under its certificate of inspection as an oceanographic vessel, but shall be inspected and certified for the service in which engaged, and the scientific personnel aboard then become persons employed in the business of the vessel.
¹⁰ Bulk dangerous cargoes are cargoes specified in table 151.01-10(b); in table 1 of part 153, and in table 4 of part 154 of this chapter.
¹¹ For manned tankbarges, see § 151.01-10(c) of this chapter.
¹² See § 151.01-15, 153.900(d), or 154.30 of this chapter as appropriate.
¹³ Sail vessel means a vessel with no auxiliary machinery on board. If the vessel has auxiliary machinery, refer to motor vessels.

* * * * *

PART 90—GENERAL PROVISIONS

9. The authority citation for part 90 continues to read as follows:

Authority: 46 U.S.C. 3306, 3703; Pub. L. 103-206, 107 Stat. 2439; 49 U.S.C. 5103, 5106; E.O. 12234, 45 FR 58801, 3 CFR, 1980 Comp., p. 277; Department of Homeland Security Delegation No. 0170.1.

10. In § 90.05-1, Table 90.05-1(a) is revised to read as follows:

§ 90.05-1 Vessels subject to requirements of this subchapter.

(a) * * *

Table 90.05-1(a)
Method of propulsion, qualified by size or other limitation ¹ | Vessels inspected and certificated under Subchapter D—Tank Vessels ² | Vessels inspected and certificated under Subchapter H—Passenger Vessels 2 3 4 5 or Subchapter K or T—Small Passenger Vessels 2 3 4 | Vessels inspected and certificated under Subchapter I—Cargo and Miscellaneous Vessels 2 5 | Vessels subject to the provisions of Subchapter C—Uninspected Vessels 2 3 6 7 8 | Vessels subject to the provisions of Subchapter U—Oceanographic Vessels 2 3 6 7 9 | Vessels subject to the provisions of Subchapter O—Certain Bulk and Dangerous Cargoes ¹⁰
Column 1 | Column 2 | Column 3 | Column 4 | Column 5 | Column 6 | Column 7
(1) Motor, all vessels except seagoing motor vessels ≥300 gross tons | All vessels carrying combustible or flammable liquid cargo in bulk.⁵ | (i) All vessels carrying more than 12 passengers on an international voyage, except recreational vessels not engaged in trade.⁷ (ii) All vessels <100 gross tons that— | All vessels >15 gross tons carrying freight-for-hire, except those covered by columns 2 and 3. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (A) Carry more than 6 passengers-for-hire whether chartered or not, or
|  | (B) Carry more than 6 passengers when chartered with the crew provided, or
|  | (C) Carry more than 12 passengers when chartered with no crew provided, or
|  | (D) Carry at least 1 passenger-for-hire and are submersible vessels.⁷
|  | (E) Carry more than 6 passengers and are ferries
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels⁷
|  | (E) Carry at least 1 passenger and are ferries
|  | (iv) These regulations do not apply to—
|  | (A) Recreational vessels not engaged in trade
|  | (B) Documented cargo or tank vessels issued a permit to carry 16 or fewer persons in addition to the crew
|  | (C) Fishing vessels not engaged in ocean or coastwise service. Such vessels may carry persons on the legitimate business of the vessel ⁶ in addition to the crew, as restricted by the definition of passenger.⁷
(2) Motor, seagoing motor vessels ≥300 gross tons | All vessels carrying combustible or flammable liquid cargo in bulk.⁵ | (i) All vessels carrying more than 12 passengers on an international voyage, except recreational vessels not engaged in trade.⁷ | All vessels, including recreational vessels, not engaged in trade. This does not include vessels covered by columns 2 and 3, and vessels engaged in the fishing industry | All vessels not covered by columns 2, 3, 4, 6, and 7 | All vessels engaged in oceanographic research | All vessels carrying cargoes in bulk that are listed in part 153, table 1, or part 154, table 4, or unlisted cargoes that would otherwise be subject to these parts.¹²
|  | (ii) All ferries <100 gross tons carrying more than 6 passengers and all ferries ≥100 gross tons that carry at least 1 passenger
|  | (iii) These regulations do not apply to—
|  | (A) Recreational vessels not engaged in trade
|  | (B) Documented cargo or tank vessels issued a permit to carry 16 or fewer persons in addition to the crew
|  | (C) Fishing vessels not engaged in ocean or coastwise service may carry persons on the legitimate business of the vessel ⁶ in addition to the crew, as restricted by the definition of passenger.⁷
(3) Non-self-propelled vessels <100 gross tons | All vessels carrying combustible or flammable liquid cargo in bulk.⁵ | (i) All vessels that— (A) Carry more than 6 passengers-for-hire whether chartered or not, or (B) Carry more than 6 passengers when chartered with the crew provided, or (C) Carry more than 12 passengers when chartered with no crew provided, or | All manned barges except those covered by columns 2 and 3 | All barges carrying passengers or passengers-for-hire except those covered by column 3 | None | All tank barges carrying cargoes listed in Table 151.05 of this chapter or unlisted cargoes that would otherwise be subject to part 151.1 11 12
|  | (D) Carry at least 1 passenger-for-hire and is a submersible vessel.⁷
|  | (E) Carry more than 12 passengers on an international voyage
|  | (F) Carry more than 6 passengers and are ferries.
(4) Non-self-propelled vessels ≥100 gross tons | All vessels carrying combustible or flammable liquid cargo in bulk.⁵ | (iii) All vessels that— (A) Carry more than 12 passengers-for-hire whether chartered or not, or (B) Carry more than 12 passengers when chartered with the crew provided, or (C) Carry more than 12 passengers when chartered with no crew provided, or | All seagoing barges except a seagoing barge that is covered by column 2 or 3, or that is unmanned for the purposes of operating or navigating the barge, and that carries neither a hazardous material as cargo nor a flammable or combustible liquid, including oil, in bulk quantities of 250 barrels or more | All barges carrying passengers or passengers-for-hire except those covered by columns 3 and 6 | All seagoing barges engaged in oceanographic research | All tank barges carrying cargoes listed in Table 151.05 of this chapter or unlisted cargoes that would otherwise be subject to part 151.1 11 12
|  | (D) Carry at least 1 passenger-for-hire and is a submersible vessel ⁷
|  | (E) Carry more than 12 passengers on an international voyage
|  | (F) Carry at least 1 passenger and are ferries
(5) Sail ¹³ vessels ≤700 gross tons | All vessels carrying combustible or flammable liquid cargo in bulk.⁵ | (i) All vessels carrying more than 12 passengers on an international voyage, except recreational vessels not engaged in trade.⁷ (ii) All vessels <100 gross tons that— | All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (A) Carry more than 6 passengers-for-hire whether chartered or not, or
|  | (B) Carry more than 6 passengers when chartered with the crew provided, or
|  | (C) Carry more than 12 passengers when chartered with no crew provided, or
|  | (D) Carry at least 1 passenger-for-hire and are submersible vessels ⁷
|  | (E) Carry more than 6 passengers and are ferries
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels ⁷
|  | (E) Carry at least 1 passenger and are ferries
|  | (iv) These regulations do not apply to—
|  | (A) Recreational vehicles not engaged in trade
|  | (B) Documented cargo or tank vessels issued a permit to carry 16 or fewer persons in addition to the crew
|  | (C) Fishing vessels, not engaged in ocean or coastwise service. Such vessels may carry persons on the legitimate business of the vessel ⁶ in addition to the crew, as restricted by the definition of passenger.⁷
(6) Sail ¹³ vessels >700 gross tons | All vessels carrying combustible or flammable liquid cargo in bulk.⁵ | (i) All vessels carrying passengers or passengers-for-hire, except recreational vessels ⁷ (ii) All ferries that carry at least 1 passenger | All vessels carrying dangerous cargoes, when required by 46 CFR part 98 | None | None | All vessels carrying cargoes in bulk that are listed in part 153, table 1, or part 154, table 4, or unlisted cargoes that would otherwise be subject to these parts.¹²
(7) Steam, vessels ≤19.8 meters (65 feet) in length | All vessels carrying combustible or flammable liquid cargo in bulk.⁵ | (i) All vessels carrying more than 12 passengers on an international voyage, except recreational vessels not engaged in trade⁷ (ii) All vessels <100 gross tons that— (A) Carry more than 6 passengers-for-hire whether chartered or not, or | All tugboats and towboats. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (B) Carry more than 6 passengers when chartered with the crew provided, or
|  | (C) Carry more than 12 passengers when chartered with no crew provided, or
|  | (D) Carry at least 1 passenger-for-hire and are submersible vessels ⁷
|  | (E) Carry more than 6 passengers and are ferries
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels ⁷
|  | (E) Carry at least 1 passenger and are ferries
|  | (iv) These regulations do not apply to—
|  | (A) Recreational vessels not engaged in trade
|  | (B) Documented cargo or tank vessels issued a permit to carry 16 or fewer persons in addition to the crew
|  | (C) Fishing vessels not engaged in ocean or coastwise service. Such vessels may carry persons on the legitimate business of the vessel ⁶ in addition to the crew, as restricted by the definition of passenger.⁷
(8) Steam, vessels >19.8 meters (65 feet) in length | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or | All vessels not covered by columns 2, 3, 6, and 7 | None | All vessels engaged in oceanographic research | All vessels carrying cargoes in bulk that are listed in part 153, table 1, or part 154, table 4, or unlisted cargoes that would otherwise be subject to these parts.¹²
|  | (B) Carry more than 6 passengers when chartered with the crew provided, or
|  | (C) Carry more than 12 passengers when chartered with no crew provided, or
|  | (D) Carry at least 1 passenger-for-hire and are submersible vessels⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels ⁷
|  | (E) Carry at least 1 passenger and are ferries
|  | (iv) These regulations do not apply to—
|  | (A) Recreational vehicles not engaged in trade
|  | (B) Documented cargo or tank vessels issued a permit to carry 16 or fewer persons in addition to the crew
|  | (C) Fishing vessels not engaged in ocean or coastwise service. Such vessels may carry persons on the legitimate business of the vessel ⁶ in addition to the crew, as restricted by the definition of passenger.⁷
Key to symbols used in this table: ≤ means less than or equal to; > means greater than; < means less than; and ≥ means greater than or equal to.
Footnotes:
¹ Where length is used in this table, it means the length measured from end to end over the deck, excluding sheer. This expression means a straight line measurement of the overall length from the foremost part of the vessel to the aftermost part of the vessel, measured parallel to the centerline.
² Subchapters E (Load Lines), F (Marine Engineering), J (Electrical Engineering), N (Dangerous Cargoes), S (Subdivision and Stability), and W (Lifesaving Appliances and Arrangements) of this chapter may also be applicable under certain conditions. The provisions of 49 CFR parts 171 through 179 apply whenever packaged hazardous materials are on board vessels (including motorboats), except when specifically exempted by law.
³ Public nautical schoolships, other than vessels of the Navy and Coast Guard, must meet the requirements of part 167 of subchapter R (Nautical Schools) of this chapter, Civilian nautical schoolships, as defined by 46 U.S.C. 1331, must meet the requirements of subchapter H (Passenger Vessels) and part 168 of subchapter R (Nautical Schools) of this chapter.
⁴ Subchapter H (Passenger Vessels) of this chapter covers only those vessels of 100 gross tons or more, subchapter T (Small Passenger Vessels) of this chapter covers only those vessels of less than 100 gross tons, and subchapter K (Small Passenger Vessels) of this chapter covers only those vessels less than 100 gross tons carrying more than 150 passengers or overnight accommodations for more than 49 passengers.
⁵ Vessels covered by subchapter H (Passenger Vessels) or I (Cargo and Miscellaneous Vessels) of this chapter, where the principal purpose or use of the vessel is not for the carriage of liquid cargo, may be granted a permit to carry a limited amount of flammable or combustible liquid cargo in bulk. The portion of the vessel used for the carriage of the flammable or combustible liquid cargo must meet the requirements of subchapter D (Tank Vessels) in addition to the requirements of subchapter H (Passenger Vessels) or I (Cargo and Miscellaneous Vessels) of this chapter.
⁶ Any vessel on an international voyage is subject to the requirements of the International Convention for Safety of Life at Sea, 1974 (SOLAS).
⁷ The terms “passenger(s)” and “passenger(s)-for-hire” are as defined in 46 U.S.C. 2101(21)(21a). On oceanographic vessels, scientific personnel onboard shall not be deemed to be passengers nor seamen, but for calculations of lifesaving equipment, etc., must be counted as persons.
⁸ Boilers and machinery are subject to examination on vessels over 40 feet in length.
⁹ Under 46 U.S.C. 441 an oceanographic research vessel “. . . being employed exclusively in instruction in oceanography or limnology, or both, or exclusively in oceanographic research, . . . . Under 46 U.S.C. 443, “an oceanographic research vessel shall not be deemed to be engaged in trade or commerce.” If or when an oceanographic vessel engages in trade or commerce, such vessel cannot operate under its certificate of inspection as an oceanographic vessel, but shall be inspected and certified for the service in which engaged, and the scientific personnel aboard then become persons employed in the business of the vessel.
¹⁰ Bulk dangerous cargoes are cargoes specified in table 151.01-10(b); in table 1 of part 153, and in table 4 of part 154 of this chapter.
¹¹ For manned tankbarges, see § 151.01-10(c) of this chapter.
¹² See § 151.01-15, 153.900(d), or 154.30 of this chapter as appropriate.
¹³ Sail vessel means a vessel with no auxiliary machinery on board. If the vessel has auxiliary machinery, refer to motor vessels.

* * * * *

11. In § 90.05-25, paragraph (a) is revised to read as follows:

§ 90.05-25 Seagoing barge.

(a) Each seagoing barge, as defined in 46 CFR 90.10-36, is subject to inspection and certification; except that a seagoing barge is exempt from those requirements if it is unmanned for the purposes of operating or navigating the barge, and carries neither a hazardous material as cargo nor a flammable or combustible liquid, including oil, in bulk quantities of 250 barrels or more.

* * * * *

PART 91—INSPECTION AND CERTIFICATION

12. The authority citation for part 91 continues to read as follows:

Authority: 33 U.S.C. 1321(j); 46 U.S.C. 3205, 3306, 3307; 46 U.S.C. Chapter 701; Executive Order 12234; 45 FR 58801; 3 CFR, 1980 Comp., p. 277; Executive Order 12777, 56 FR 54757, 3 CFR, 1991 Comp., p. 351; Department of Homeland Security Delegation No. 0170.1.

13. In § 91.01-10, paragraph (c) is revised to read as follows:

§ 91.01-10 Period of validity for a Certificate of Inspection.

* * * * *

(c) The master or owner of a seagoing barge for which inspection and certification is required by 46 CFR 90.05-25(a), or the master or owner's agent, may apply for a certificate of inspection that is valid for a specific period less than 5 years, or for a specific voyage. The certificate will describe the conditions under which it is issued, and will be endorsed as applying to an unmanned seagoing barge. Paragraph (c) of this section applies if the seagoing barge-

(1) Makes a voyage beyond the Boundary Line for the sole purpose of changing employment; or

(2) Makes a voyage beyond the Boundary Line only infrequently and after doing so returns to its port of departure.

PART 188—GENERAL PROVISIONS

14. The authority citation for part 188 continues to read as follows:

Authority: 46 U.S.C. 2113, 3306; Pub. L 103-206, 107 Stat. 2439; 49 U.S.C. 5103, 5106; E.O. 12234, 45 FR 58801, 3 CFR, 1980 Comp., p. 277; Department of Homeland Security Delegation No. 0170.1.

15. In § 188.05-1, Table 188.05-1(a) is revised to read as follows:

§ 188.05-1 Vessels subject to requirements of this subchapter.

(a) * * *

Table 188.05-1(a)
Method of propulsion, qualified by size or other limitation ¹ | Vessels inspected and certificated under Subchapter D—Tank Vessels ² | Vessels inspected and certificated under Subchapter H—Passenger Vessels 2 3 4 5 or Subchapter K or T—Small Passenger Vessels 2 3 4 | Vessels inspected and certificated under Subchapter I—Cargo and Miscellaneous Vessels ² ⁵ | Vessels subject to the provisions of Subchapter C—Uninspected Vessels 2 3 6 7 8 | Vessels subject to the provisions of Subchapter U—Oceanographic Vessels 2 3 6 7 9 | Vessels subject to the provisions of Subchapter O—Certain Bulk and Dangerous Cargoes ¹⁰
Column 1 | Column 2 | Column 3 | Column 4 | Column 5 | Column 6 | Column 7
(1) Motor, all vessels except seagoing motor vessels ≥300 gross tons | All vessels carrying combustible or flammable liquid cargo in bulk.⁵ | (i) All vessels carrying more than 12 passengers on an international voyage, except recreational vessels not engaged in trade.⁷ (ii) All vessels <100 gross tons that— | All vessels >15 gross tons carrying freight-for-hire, except those covered by columns 2 and 3. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (A) Carry more than 6 passengers-for-hire whether chartered or not, or
|  | (B) Carry more than 6 passengers when chartered with the crew provided, or
|  | (C) Carry more than 12 passengers when chartered with no crew provided, or
|  | (D) Carry at least 1 passenger-for-hire and are submersible vessels ⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels ⁷
|  | (E) Carry at least 1 passenger and are ferries.
|  | (iv) These regulations do not apply to—
|  | (A) Recreational vessels not engaged in trade
|  | (B) Documented cargo or tank vessels issued a permit to carry 16 or fewer persons in addition to the crew
|  | (C) Fishing vessels not engaged in ocean or coastwise service. Such vessels may carry persons on the legitimate business of the vessel ⁶ in addition to the crew, as restricted by the definition of passenger.⁷
(2) Motor, seagoing motor vessels ≥300 gross tons | All vessels carrying combustible or flammable liquid cargo in bulk.⁵ | (i) All vessels carrying more than 12 passengers on an international voyage, except recreational vessels not engaged in trade.⁷ | All vessels, including recreational vessels, not engaged in trade. This does not include vessels covered by columns 2 and 3, and vessels engaged in the fishing industry | All vessels not covered by columns 2, 3, 4, 6, and 7 | All vessels engaged in oceanographic research | All vessels carrying cargoes in bulk that are listed in part 153, table 1, or part 154, table 4, or unlisted cargoes that would otherwise be subject to these parts.¹²
| (ii) All ferries <100 gross tons carrying more than 6 passengers and all ferries ≥100 gross tons that carry at least 1 passenger. | (iii) These regulations do not apply to—
|  | (A) Recreational vessels not engaged in trade
|  | (B) Documented cargo or tank vessels issued a permit to carry 16 or fewer persons in addition to the crew
|  | (C) Fishing vessels not engaged in ocean or coastwise service may carry persons on the legitimate business of the vessel ⁶ in addition to the crew, as restricted by the definition of passenger.⁷

Table 188.05-1(a)
Method of propulsion, qualified by size or other limitation ¹ | Vessels inspected and certificated under Subchapter D—Tank Vessels ² | Vessels inspected and certificated under Subchapter H—Passenger Vessels 2 3 4 5 or Subchapter K or T—Small Passenger Vessels 2 3 4 | Vessels inspected and certificated under Subchapter I—Cargo and Miscellaneous Vessels ² ⁵ | Vessels subject to the provisions of Subchapter C—Uninspected Vessels 2 3 6 7 8 | Vessels subject to the provisions of Subchapter U—Oceanographic Vessels 2 3 6 7 9 | Vessels subject to the provisions of Subchapter O—Certain Bulk and Dangerous Cargoes ¹⁰
Column 1 | Column 2 | Column 3 | Column 4 | Column 5 | Column 6 | Column 7
(3) Non-self-propelled vessels <100 gross tons | All vessels carrying combustible or flammable liquid cargo in bulk.⁵ | (i) All vessels that— (A) Carry more than 6 passengers-for-hire whether chartered or not, or (B) Carry more than 6 passengers when chartered with the crew provided, or | All manned barges except those covered by columns 2 and 3 | All barges carrying passengers or passengers-for-hire except those covered by column 3 | None | All tank barges carrying cargoes listed in Table 151.05 of this chapter or unlisted cargoes that would otherwise be subject to part 151.1 ¹¹ ¹²
|  | (C) Carry more than 12 passengers when chartered with no crew provided, or
|  | (D) Carry at least 1 passenger-for-hire and is a submersible vessel ⁷
|  | (E) Carry more than 12 passengers on an international voyage
|  | (F) Carry more than 6 passengers and are ferries.
(4) Non-self-propelled vessels ≥100 gross tons | All vessels carrying combustible or flammable liquid cargo in bulk⁵ | (iii) All vessels that— (A) Carry more than 12 passengers-for-hire whether chartered or not, or (B) Carry more than 12 passengers when chartered with the crew provided, or (C) Carry more than 12 passengers when chartered with no crew provided, or | All seagoing barges except a seagoing barge that is covered by column 2 or 3, or that is unmanned for the purposes of operating or navigating the barge, and that carries neither a hazardous material as cargo nor a flammable or combustible liquid, including oil, in bulk quantities of 250 barrels or more | All barges carrying passengers or passengers-for-hire except those covered by columns 3 and 6 | All seagoing barges engaged in oceanographic research | All tank barges carrying cargoes listed in Table 151.05 of this chapter or unlisted cargoes that would otherwise be subject to part 151.111.¹²
|  | (D) Carry at least 1 passenger-for-hire and is a submersible vessel⁷
|  | (E) Carry more than 12 passengers on an international voyage
|  | (F) Carry at least 1 passenger and are ferries.

Table 188.05-1(a)
Method of propulsion, qualified by size or other limitation ¹ | Vessels inspected and certificated under Subchapter D—Tank Vessels ² | Vessels inspected and certificated under Subchapter H—Passenger Vessels 2 3 4 5 or Subchapter K or T—Small Passenger Vessels 2 3 4 | Vessels inspected and certificated under Subchapter I—Cargo and Miscellaneous Vessels ² ⁵ | Vessels subject to the provisions of Subchapter C—Uninspected Vessels 2 3 6 7 8 | Vessels subject to the provisions of Subchapter U—Oceanographic Vessels 2 3 6 7 9 | Vessels subject to the provisions of Subchapter O—Certain Bulk and Dangerous Cargoes ¹⁰
Column 1 | Column 2 | Column 3 | Column 4 | Column 5 | Column 6 | Column 7
(5) Sail ¹³ vessels ≤700 gross tons | All vessels carrying combustible or flammable liquid cargo in bulk.⁵ | (i) All vessels carrying more than 12 passengers on an international voyage, except recreational vessels not engaged in trade.⁷ (ii) All vessels <100 gross tons that— | All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (A) Carry more than 6 passengers-for-hire whether chartered or not, or
|  | (B) Carry more than 6 passengers when chartered with the crew provided, or
|  | (C) Carry more than 12 passengers when chartered with no crew provided, or
|  | (D) Carry at least 1 passenger-for-hire and are submersible vessels⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels⁷
|  | (E) Carry at least 1 passenger and are ferries.
|  | (iv) These regulations do not apply to—
|  | (A) Recreational vehicles not engaged in trade
|  | (B) Documented cargo or tank vessels issued a permit to carry 16 or fewer persons in addition to the crew
|  | (C) Fishing vessels, not engaged in ocean or coastwise service. Such vessels may carry persons on the legitimate business of the vessel ⁶ in addition to the crew, as restricted by the definition of passenger.⁷
(6) Sail ¹³ vessels >700 gross tons | All vessels carrying combustible or flammable liquid cargo in bulk.⁵ | (i) All vessels carrying passengers or passengers-for-hire, except recreational vessels.⁷ (ii) All ferries that carry at least 1 passenger. | All vessels carrying dangerous cargoes, when required by 46 CFR part 98 | None | None | All vessels carrying cargoes in bulk that are listed in part 153, table 1, or part 154, table 4, or unlisted cargoes that would otherwise be subject to these parts.¹²
(7) Steam, vessels ≤19.8 meters (65 feet) in length | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or | All tugboats and towboats. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (B) Carry more than 6 passengers when chartered with the crew provided, or
|  | (C) Carry more than 12 passengers when chartered with no crew provided, or
|  | (D) Carry at least 1 passenger-for-hire and are submersible vessels⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels⁷
|  | (E) Carry at least 1 passenger and are ferries.
|  | (iv) These regulations do not apply to—
|  | (A) Recreational vessels not engaged in trade
|  | (B) Documented cargo or tank vessels issued a permit to carry 16 or fewer persons in addition to the crew
|  | (C) Fishing vessels not engaged in ocean or coastwise service. Such vessels may carry persons on the legitimate business of the vessel ⁶ in addition to the crew, as restricted by the definition of passenger.⁷
(8) Steam, vessels >19.8 meters (65 feet) in length | All vessels carrying combustible or flammable liquid cargo in bulk⁵ | (i) All vessels carrying more than 12 passengers on an international voyage, except recreational vessels not engaged in trade.⁷ (ii) All vessels <100 gross tons that— | All vessels not covered by columns 2, 3, 6, and 7 | None | All vessels engaged in oceanographic research | All vessels carrying cargoes in bulk that are listed in part 153, table 1, or part 154, table 4, or unlisted cargoes that would otherwise be subject to these parts.¹²
|  | (A) Carry more than 6 passengers-for-hire whether chartered or not, or
|  | (B) Carry more than 6 passengers when chartered with the crew provided, or
|  | (C) Carry more than 12 passengers when chartered with no crew provided, or
|  | (D) Carry at least 1 passenger-for-hire and are submersible vessels⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vehicles not engaged in trade.
|  | (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
Key to symbols used in this table: ≤ means less than or equal to; > means greater than; < means less than; and ≥ means greater than or equal to.
Footnotes:
¹ Where length is used in this table, it means the length measured from end to end over the deck, excluding sheer. This expression means a straight line measurement of the overall length from the foremost part of the vessel to the aftermost part of the vessel, measured parallel to the centerline.
² Subchapters E (Load Lines), F (Marine Engineering), J (Electrical Engineering), N (Dangerous Cargoes), S (Subdivision and Stability), and W (Lifesaving Appliances and Arrangements) of this chapter may also be applicable under certain conditions. The provisions of 49 CFR parts 171 through 179 apply whenever packaged hazardous materials are on board vessels (including motorboats), except when specifically exempted by law.
³ Public nautical schoolships, other than vessels of the Navy and Coast Guard, must meet the requirements of part 167 of subchapter R (Nautical Schools) of this chapter, Civilian nautical schoolships, as defined by 46 U.S.C. 1331, must meet the requirements of subchapter H (Passenger Vessels) and part 168 of subchapter R (Nautical Schools) of this chapter.
⁴ Subchapter H (Passenger Vessels) of this chapter covers only those vessels of 100 gross tons or more, subchapter T (Small Passenger Vessels) of this chapter covers only those vessels of less than 100 gross tons, and subchapter K (Small Passenger Vessels) of this chapter covers only those vessels less than 100 gross tons carrying more than 150 passengers or overnight accommodations for more than 49 passengers.
⁵ Vessels covered by subchapter H (Passenger Vessels) or I (Cargo and Miscellaneous Vessels) of this chapter, where the principal purpose or use of the vessel is not for the carriage of liquid cargo, may be granted a permit to carry a limited amount of flammable or combustible liquid cargo in bulk. The portion of the vessel used for the carriage of the flammable or combustible liquid cargo must meet the requirements of subchapter D (Tank Vessels) in addition to the requirements of subchapter H (Passenger Vessels) or I (Cargo and Miscellaneous Vessels) of this chapter.
⁶ Any vessel on an international voyage is subject to the requirements of the International Convention for Safety of Life at Sea, 1974 (SOLAS).
⁷ The terms “passenger(s)” and “passenger(s)-for-hire” are as defined in 46 U.S.C. 2101(21)(21a). On oceanographic vessels, scientific personnel onboard shall not be deemed to be passengers nor seamen, but for calculations of lifesaving equipment, etc., must be counted as persons.
⁸ Boilers and machinery are subject to examination on vessels over 40 feet in length.
⁹ Under 46 U.S.C. 441 an oceanographic research vessel “. . . being employed exclusively in instruction in oceanography or limnology, or both, or exclusively in oceanographic research, . . . . Under 46 U.S.C. 443, “an oceanographic research vessel shall not be deemed to be engaged in trade or commerce.” If or when an oceanographic vessel engages in trade or commerce, such vessel cannot operate under its certificate of inspection as an oceanographic vessel, but shall be inspected and certified for the service in which engaged, and the scientific personnel aboard then become persons employed in the business of the vessel.
¹⁰ Bulk dangerous cargoes are cargoes specified in table 151.01-10(b); in table 1 of part 153, and in table 4 of part 154 of this chapter.
¹¹ For manned tankbarges, see § 151.01-10(c) of this chapter.
¹² See § 151.01-15, 153.900(d), or 154.30 of this chapter as appropriate.
¹³ Sail vessel means a vessel with no auxiliary machinery on board. If the vessel has auxiliary machinery, refer to motor vessels.

* * * * *

Dated: August 12, 2013.
J.G. Lantz,
Director of Commercial Regulations and Standards, U.S. Coast Guard.

[FR Doc. 2013-20351 Filed 8-28-13; 8:45 am]

BILLING CODE 9110-04-P